DEPARTMENT OF LABOR

Employment and Training Administration

[TA-W-64,856]

Louisiana Pacific, Engineered Wood Products Division, Including On-Site Temporary Workers From Tempo Employment Service, New Limerick, ME; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 26, 2009, applicable to workers of Louisiana Pacific, Engineered Wood Products Division, New Limerick, Maine. The notice was published in the Federal Register on March 19, 2009 (74 FR 11757).

At the request of the State agency, the Department reviewed the certification for workers of the subject firm. The workers are engaged in the production of laminated strand lumber (LSL).

New information shows that temporary workers from Tempo Employment Service were employed on-site at the New Limerick, Maine location of Louisiana-Pacific Corporation, Engineered Wood Products Division. The Department has determined that these workers were sufficiently under the control of Louisiana-Pacific Corporation, Engineered Wood Products Division to be considered temporary workers.

Based on these findings, the Department is amending this certification to include temporary workers from Tempo Employment Service working on-site at the New Limerick, Maine location of the subject firm.

The amended notice applicable to TA-W-64,856 is hereby issued as follows:

All workers of Louisiana-Pacific Corporation, Engineered Wood Products Division, including on-site temporary workers from Tempo Employment Service, New Limerick, Maine, who became totally or partially separated from employment on or after January 9, 2008, through February 26, 2011, are eligible to apply for adjustment assistance under Section 223 of the Trade Act of 1974, and are also eligible to apply for alternative trade adjustment assistance under Section 246 of the Trade Act of 1974.

Signed at Washington, DC, this 3rd day of April 2009.
Linda G. Poole,
Certifying Officer, Division of Trade Adjustment Assistance.

[FR Doc. E9-8699 Filed 4-15-09; 8:45 am]

BILLING CODE 4510-FN-P